FEDERAL COMMUNICATIONS COMMISSION

[OMB 3060-XXXX; FR ID 68459]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before January 21, 2022.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-XXXX.

Title: Inmate Calling Services (ICS) 2022 One-Time Data Collection, WC Docket No. 12-375, FCC 21-60.

Form Number(s): FCC Form 2302(a) and FCC Form 2302(b).

Type of Review: New collection.

Respondents: Business or other for-profit.

Number of Respondents and Responses: 20 respondents; 20 responses.

Estimated Time per Response: 355 hours on average.

Frequency of Response: One-time reporting requirement.

Obligation to Respond: Required to obtain or retain benefits. Statutory authority for this collection of information is contained in sections 1, 4(i)-4(j), 201(b), 218, 220, 225, 255, 276, 403, and 617 of the Communications Act of 1934, as amended, 47 U.S.C. 151, 154(i)-(j), 201(b), 218, 220, 225, 255, 276, 403 and 617.

Total Annual Burden: 7,100 hours.

Total Annual Cost: No cost.

Privacy Act Impact Assessment: No impact(s).

Nature and Extent of Confidentiality: The Protective Order in the Commission's inmate calling services (ICS) proceeding, WC Docket 12-375, 28 FCC Rcd 16954 (WCB 2013), provides confidential treatment for the proprietary information submitted by ICS providers in response to the Commission's directives. The Commission will treat as presumptively confidential any particular information identified as confidential by the provider in accordance with the Freedom of Information Act and Commission rules. Each confidential document should be stamped and submitted to the Secretary's Office with an accompanying cover letter, as specified by the Protective Order.

Needs and Uses: In the 2021 ICS Order, WC Docket No. 12-375, FCC 21-60, 86 FR 40682, the Commission continued its reform of the ICS industry by, among other things, directing the Commission's Wireline Competition Bureau (WCB) and Office of Economics and Analytics (OEA) (collectively, WCB/OEA) to collect data and other information regarding ICS providers' operations, costs, demands, and revenues. The Commission explained that it would use this Third Mandatory Data Collection to set permanent interstate and international ICS provider-related rate caps that more closely reflect providers' costs of serving correctional facilities. The Commission also emphasized that those data would enable it to evaluate and, if warranted, revise the current ancillary service charge caps.

The Commission delegated authority to WCB/OEA to implement the Third Mandatory Data Collection—including determining and describing the types of information to require providers to submit regarding their operations, costs, demand, and revenues—and directed WCB/OEA to develop a template and instructions for the collection.

Pursuant to their delegated authority, WCB/OEA drafted proposed instructions, a template, and a certification form for the Third Mandatory Data Collection. See Third Mandatory Data Collection Proposed Instructions, available for download at http://www.fcc.gov/sites/default/files/third_mandatory_data_collection_instructions.docx. Under WCB/OEA's proposals, ICS providers would be required to submit the required data using a reporting template, to be filed through the Commission's electronic comment filing system (ECFS). The proposed template consists of a Word document (Appendix A to the instructions) for responses requiring narrative information and Excel spreadsheets (Appendix B to the instructions) for responses that require specific numbers or information. ICS providers must also submit an audited financial statement or report for each Year from 2019 through 2021, and a signed certification of truthfulness, accuracy, and completeness. The instructions, template, and certification form will simplify compliance with, and reduce the burden of, this data collection.

On September 22, 2021, WCB/OEA released the Third Mandatory Data Collection (MDC) Public Notice (DA 21-1192, WC Docket No. 12-375 (WCB/OEA Sept. 22. 2021)), seeking comment on all aspects of the proposed collection, including the draft instructions, template, and certification form. The MDC Public Notice was published in the Federal Register contemporaneously with the 60-Day Notice for this information collection. See 86 FR 54897 (2021). WCB/OEA stated that it would consider comments submitted in response to the 60-Day Notice and the MDC Public Notice in finalizing this information collection prior to submitting the documents to the Office of Management and Budget.

After considering the comments and reply comments filed in response to the MDC Public Notice and the 60-Day Notice, WCB/OEA released an Order on January 18, 2022 adopting the Third Mandatory Data Collection, and issuing the related instructions, template, and certification form. See Third Mandatory Data Collection Adoption Order, (DA 22-52, WC Docket No. 12-375 (WCB/OEA Jan. 18, 2022)), available at https://www.fcc.gov/document/wcb-and-oea-adopt-inmate-calling-services-data-collection. This Order implemented WCB/OEA's proposals, with refinements responding to suggestions offered by the commenters. Under WCB/OEA's Order, ICS providers will be required to submit the required data using a reporting template to be filed through the Commission's electronic filing system (ECFS) in accordance with instructions adopted by WCB/OEA. See Third Mandatory Data Collection Instructions, available for download at: Third Mandatory Data Collection Instructions. The template consists of a Word document (Appendix A to the instructions) for responses requiring narrative information and Excel spreadsheets (Appendix B to the instructions) (collectively, FCC Form 2302(a)) for responses that require specific numbers for information. The template must be submitted in a machine-readable and manipulatable format and may not be converted to a different format, such as a PDF. WCB/OEA also adopted the requirement that a senior executive of each provider certify as to the truthfulness, accuracy, and completeness of the provider's response to the data collection (FCC Form 2302(b)). In addition, WCB/OEA adopted its proposal to require all providers to submit audited financial statements or reports, or similar documentation, for the reporting period, to the extent they have been produced in the ordinary course of business. Providers must submit these reports for each year of the reporting period or certify that they have not produced such reports in the ordinary course of business. These documents will be submitted for approval by the Office of Management and Budget as FCC Form 2302(a) and FCC Form 2302(b).

Federal Communications Commission.
Marlene Dortch,
Secretary, Office of the Secretary.

[FR Doc. 2022-01205 Filed 1-20-22; 8:45 am]

BILLING CODE 6712-01-P